DEPARTMENT OF TRANSPORTATION

Federal Motor Carrier Safety Administration

[Docket No. FMCSA-2012-0032]

Commercial Driver's License Standards: Application for Exemption; Daimler Trucks North America (Daimler)

AGENCY: Federal Motor Carrier Safety Administration (FMCSA), DOT.

ACTION: Notice of application for exemption; request for comments.

SUMMARY: FMCSA announces that Daimler Trucks North America (Daimler) has applied for two drivers of commercial motor vehicles (CMVs) to be exempt from the Federal requirement to hold a commercial driver's license (CDL) issued by one of the States. Daimler requests that the exemption cover two German project engineers who will test-drive CMVs for Daimler within the United States. Daimler states the exemption is needed to meet future vehicle safety and environmental regulatory requirements and to promote the development of technology advancements in vehicle safety systems and emissions reductions. These Daimler drivers hold valid German CDLs and need to be able to test-drive Daimler vehicles on U.S. roads to better understand product requirements for these systems in “real world” environments in the U.S. market, and verify results. Daimler believes the requirements for a German CDL are such that they ensure that the same level of safety is met or exceeded as if these drivers had U.S. state-issued CDLs.

DATES: Comments must be received on or before April 6, 2012.

ADDRESSES: You may submit comments identified by Federal Docket Management System Number FMCSA-2012-0032 by any of the following methods:

• Federal eRulemaking Portal: Go to www.regulations.gov. In the ENTER KEYWORD OR ID box enter FMCSA-2012-0032 and click on the tab labeled SEARCH. On the ensuing page, click on any tab labeled SUBMIT A COMMENT on the extreme right of the page and a page should open that is titled “Submit a Comment.” You may identify yourself under section 1, ENTER INFORMATION or you may skip section 1 and remain anonymous. You enter your comments in section 2, TYPE COMMENT & UPLOAD FILE. When you are ready to submit your comments, click on the tab labeled SUBMIT. Your comment is then submitted to the docket; and you will receive a tracking number.

• Fax: 1-202-493-2251.

• Mail: Docket Management Facility: U.S. Department of Transportation, 1200 New Jersey Avenue SE., West Building, Ground Floor, Room W12-140, Washington, DC 20590-0001.

• Hand Delivery: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov at any time, and in the ENTER KEYWORD OR ID box enter FMCSA-2012-0032 and click on the tab labeled SEARCH.

Privacy Act: Anyone is able to search the electronic form of all comments received into any of our dockets by the name of the individual submitting the comment (or signing the comment, if submitted on behalf of an association, business, labor union, etc.). You may review the U.S. Department of Transportation's online privacy policy at www.dot.gov/privacy or the complete Privacy Act Statement in the Federal Register published on December 29, 2010 (75 FR 82133).

Public Participation: The www.regulations.gov Web site is generally available 24 hours each day, 365 days each year. You can obtain electronic submission and retrieval help and guidelines under the “help” section of the www.regulations.gov web site. If you want us to notify you that we received your comments, please include a self-addressed, stamped envelope or postcard or print the acknowledgement page that appears after submitting comments online.

FOR FURTHER INFORMATION CONTACT: Mr. Thomas Yager, Chief, FMCSA Driver and Carrier Operations Division; Office of Bus and Truck Standards and Operations; Telephone: 202-366-4325. Email: MCPSD@dot.gov.

SUPPLEMENTARY INFORMATION:

Background

FMCSA has authority under 49 U.S.C. 31136(e) and 31315 to grant exemptions from the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews the safety analyses and the public comments, and determines whether granting the exemption would likely achieve a level of safety equivalent to, or greater than, the level that would be achieved by the current regulation (49 CFR 381.305). The decision of the Agency must be published in the Federal Register (49 CFR 381.315(b)) with the reason for denying or, in the alternative, the specific person or class of persons receiving the exemption, and the regulatory provision or provisions from which exemption is granted. The notice must also specify the effective period of the exemption (up to 2 years), and explain the terms and conditions of the exemption. The exemption may be renewed (49 CFR 381.300(b)).

Request for Exemption

Daimler has applied for an exemption for from the commercial driver's license (CDL) rules, specifically 49 CFR 383.23 that prescribes licensing requirements for drivers operating commercial motor vehicles (CMVs) in interstate or intrastate commerce. Daimler requests the exemption because these drivers are citizens of Germany, and therefore cannot apply for a CDL in any of the U.S. States. A copy of the application is in Docket No. FMCSA-2012-0032.

The exemption would allow two drivers to operate CMVs in interstate commerce to support Daimler field tests to meet future vehicle safety and environmental regulatory requirements and to promote the development of technology advancements in vehicle safety systems and emissions reductions. According to Daimler, the drivers will typically drive for no more than 6 hours per day for 2 consecutive days, and that 10 percent of the test driving will be on two-lane state highways, while 90 percent will be on interstate highways. The driving for each driver will consist of no more than 200 miles per day, for a total of 400 miles during a two-day period on a quarterly basis.

The drivers are Georg Weiberg and Klaus-Dieter Holloh, and Daimler requests that the exemption cover a two-year period. The drivers hold valid German CDLs, and as explained by Daimler in its exemption requests, the requirements for a German CDL are such that they ensure that the same level of safety is met or exceeded as if these drivers had U.S. State-issued CDLs.

FMCSA has determined the process for obtaining a German-issued CDL is comparable to, or as effective as the Federal requirements of Part 383, and adequately assesses each driver's ability to operate CMVs in the United States.

Request for Comments

In accordance with 49 U.S.C. 31315(b)(4) and 31136(e), FMCSA requests public comment on Daimler's application for an exemption from the CDL requirements of 49 CFR 383.23. The Agency will consider all comments received by close of business on April 6, 2012. Comments will be available for examination in the docket at the location listed under the ADDRESSES section of this notice. The Agency will consider to the extent practicable comments received in the public docket after the closing date of the comment period.

Issued on: February 29, 2012.
Larry W. Minor,
Associate Administrator for Policy.

[FR Doc. 2012-5521 Filed 3-6-12; 8:45 am]

BILLING CODE 4910-EX-P